DEPARTMENT OF COMMERCE

National Oceanic and Atmospheric Administration

50 CFR Part 648

[Docket No. 0910051338-0151-02]

RIN 0648-XA429

Fisheries of the Northeastern United States; Northeast Multispecies Fishery; Trip Limit Increase for the Common Pool Fishery

AGENCY: National Marine Fisheries Service (NMFS), National Oceanic and Atmospheric Administration (NOAA), Commerce.

ACTION: Temporary rule; inseason adjustment of trip limit.

SUMMARY: NMFS increases the trip limit for George's Bank (GB) cod for Northeast (NE) multispecies common pool vessels for the 2011 fishing year (FY), through April 30, 2012. This action is authorized under the authority of the Magnuson-Stevens Fishery Conservation and Management Act (Magnuson-Stevens Act), and by the regulations implementing Amendment 16 and Framework Adjustment (FW) 44 to the NE Multispecies Fishery Management Plan (FMP). The action is intended to facilitate the harvest of GB cod to allow the total catch of this stock to further approach the common pool sub-annual catch limit (sub-ACL).

DATES: Effective May 19, 2011, through April 30, 2012.

FOR FURTHER INFORMATION CONTACT: Brett Alger, Fisheries Management Specialist, (978) 675-2153, fax (978) 281-9135.

SUPPLEMENTARY INFORMATION: Regulations governing the NE multispecies fishery are found at 50 CFR part 648, subpart F. The regulations at § 648.86(o) authorize the NMFS NE Regional Administrator (RA) to adjust the trip limits for common pool vessels in order to optimize the harvest of NE regulated multispecies by preventing the overharvest or underharvest of the pertinent common pool sub-ACLs. For FY 2011, the common pool sub-ACL for GB cod is 218,528 lb (99 mt). The current trip limit for GB cod is 2,000 lb (907.2 kg) per day-at-sea (DAS), up to 20,000 lb (9,071.8 kg) per trip.

The initial FY 2011 trip limit for GB cod was intended to be 3,000 lb (1,360.8 kg) per DAS, up to 30,000 lb (13,607.8 kg) per trip. However, the final rule implementing FW 45 (79 FR 23042; May 1, 2011) inadvertently implemented a trip limit of 2,000 lb (907.2 kg) per DAS, up to 20,000 lb (9,071.8 kg) per trip. The intended trip limit was developed after considering changes to the FY 2011 common pool sub-ACLs and sector rosters, catch rates of this stock during FY 2010, the implementation of differential DAS counting during FY 2011, public comment on proposed trip limits, and other available information.

As of May 6, 2011, the best available catch information, including Vessel Monitoring System (VMS) reports and dealer reports, indicates that almost none of the GB cod sub-ACL has been harvested. This action increases the GB cod trip limit to 3,000 lb (1,360.8 kg) per DAS, up to 30,000 lb (13,607.8 kg) per trip, for common pool vessels, effective May 19, 2011, through April 30, 2012, to provide additional incentive to harvest this stock and to implement the intended initial trip limit for GB cod. This action does not change the current GB cod trip limit for vessels with a Handgear A permit (300 lb (136.1 kg) per trip), Handgear B permit (75 lb (34.0 kg) per trip), or Small Vessel Category permit (300 lb (136.1 kg) of cod, haddock, and yellowtail flounder combined). Catch will continue to be monitored through dealer-reported landings, VMS catch reports, and other available information, and if necessary, additional adjustments to common pool management measures may be made.

Classification

This action is authorized by 50 CFR part 648 and is exempt from review under Executive Order 12866.

The Assistant Administrator for Fisheries, NOAA (AA) finds good cause pursuant to 5 U.S.C. 553(b)(3)(B) and (d)(3) to waive prior notice and the opportunity for public comment, as well as delayed effectiveness, for this inseason adjustment because notice, comment, and a delayed effectiveness would be impracticable and contrary to the public interest. The regulations at § 648.86(o) grant the RA authority to adjust the NE multispecies trip limits for common pool vessels in order to prevent the overharvest or underharvest of the pertinent common pool sub-ACLs. This action increases the trip limit for GB cod to implement the intended initial trip limit for FY 2011 and to facilitate the harvest of the common pool sub-ACLs for this stock. The time necessary to provide for prior notice and comment, and delayed effectiveness for this action, would prevent NMFS from implementing the necessary trip limit adjustments in a timely manner. A resulting delay in the liberalization of trip limits would unnecessarily restrain catch rates for GB cod, thereby preventing the total catch of these stocks to further approach the pertinent common pool sub-ACL.

Authority: 16 U.S.C. 1801 et seq.

Dated: May 19, 2011.
Margo Schulze-Haugen,
Acting Director, Office of Sustainable Fisheries, National Marine Fisheries Service.

[FR Doc. 2011-12748 Filed 5-19-11; 4:15 pm]

BILLING CODE 3510-22-P